DEPARTMENT OF HEALTH AND HUMAN SERVICES

National Institutes of Health

Center for Scientific Review; Amended Notice of Meeting

Notice is hereby given of a change in the meeting of the Center for Scientific Review Special Emphasis Panel, October 21, 2013, 03:30 p.m. to October 21, 2013, 06:00 p.m., Amalfi Hotel, 20 West Kinzie Street, Chicago, IL 60654 which was published in the Federal Register on September 26, 2013, 78 FR 59362.

The meeting will be held at the National Institutes of Health 6701 Rockledge Drive, Bethesda, MD 20892 on November 25, 2013. The meeting time remains the same. The meeting is closed to the public.

Dated: October 25, 2013.
Anna Snouffer,
Deputy Director, Office of Federal Advisory Committee Policy.

[FR Doc. 2013-25762 Filed 10-29-13; 8:45 am]

BILLING CODE 4140-01-P